DEPARTMENT OF THE INTERIOR

Bureau of Land Management

[UTU 78566]

Public Land Order No. 7552; Withdrawal of National Forest System Lands for the Trial, Washington, and Lost Lake Dams, Bonneville Unit, Central Utah Project; Utah; Correction

AGENCY: Bureau of Land Management, Interior.

ACTION: Correction.

SUMMARY: This action corrects an error in the land description published as FR Doc. 03-3566 in the Federal Register, 68 FR 7388, February 13, 2003, for a Bureau of Reclamation withdrawal.

On page 7388, column 2, line 14 from the bottom, which reads “NW½NE¼SE¼, SE¼NE¼SE¼,” is hereby corrected to read “W½NE¼SE¼, SE¼NE¼SE¼,”

Dated: June 6, 2003.
Kent Hoffman,
Deputy State Director, Division of Lands and Minerals.

[FR Doc. 03-14843 Filed 6-11-03; 8:45 am]

BILLING CODE 4310-94-P